DEPARTMENT OF ENERGY

Federal Energy Regulatory Commission;

[Docket No. PF04-11-000]

Sempra Energy International, Sempra Energy LNG; Notice of Meeting Attendance

July 12, 2004.

The staff of the Federal Energy Regulatory Commission will attend Sempra LNG's Open House meeting for the Port Arthur LNG and Pipeline Project. The meeting will be held on Tuesday, July 20, 2004, from 4 to 6 p.m. (c.s.t.) at: Carl A. Parker Multi-Purpose Center, Lamar University State College, 1800 Lake Shore Drive, Port Arthur, Texas.

We will be conducting a site visit of the project on Wednesday, July 21, 2004. We will meet at 8 a.m. at the LNG terminal site. We will view various portions of the project, starting with the LNG terminal site. Interested persons must provide their own transportation.

For further information on the meeting location for the site visit, please contact Marvin Ivey at 619-696-2036 or 713-515-0624.

Magalie R. Salas,
Secretary.

[FR Doc. E4-1592 Filed 7-15-04; 8:45 am]

BILLING CODE 6717-01-P